NEIGHBORHOOD REINVESTMENT CORPORATION

Sunshine Act Meeting; Finance, Budget & Program Committee Meeting of the Board of Directors

TIME & DATE: 2:00 p.m., Wednesday, February 13, 2013.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call To Order

II. Budget Update

III. Financial Report

IV. Preliminary Presentation of Grant Request for CHC and NC

V. MHA/Treasury Initiative

VI. Lease and Move

VII. FY 13 Corporate Milestone Report and Dashboard

VIII. NFMC and EHLP

IX. NeighborhoodLIFT & CityLIFT

X. Training Presentation

XI. FY13 Grants Report

XII. Adjournment

Erica Hall,
Assistant Corporate Secretary.

[FR Doc. 2013-02604 Filed 2-1-13; 4:15 pm]

BILLING CODE 7570-02-P